DEPARTMENT OF TRANSPORTATION

Coast Guard

[CGD09-00-015]

Availability of Final Great Lakes Icebreaking Environmental Impact Statement

AGENCY: Coast Guard, DOT.

ACTION: Notice of Availability of Great Lakes Icebreaking Final Environmental Impact Statement (EIS).

SUMMARY: The Coast Guard announces the completion and availability of a final environmental impact statement analyzing icebreaking on the Great Lakes.

DATES: The Coast Guard expects to make a decision regarding icebreaking operations on the Great Lakes after the EIS has been available to the public for 30 days. The Coast Guard will publish a document announcing the decision in the Federal Register.

ADDRESSES: The Coast Guard's point of contact for the EIS is Mr. Frank Blaha at the U.S. Coast Guard Civil Engineering Unit, 1240 East Ninth Street Room 2179, Cleveland, Ohio 44199-2060, Telephone (216) 902-6258. A copy of the EIS will be sent to those individuals who submitted substantive comments on the draft EIS. Any other interested party may request a copy of the EIS by writing or calling the National Technical Information Service, 5285 Port Royal Road, Springfield, Virginia, 22161, (800) 553-6847 and asking for document number PB 2000-105-877.

SUPPLEMENTARY INFORMATION:

Proposed Action

The Coast Guard proposes to continue its icebreaking operations on the Great Lakes.

Discussion of Announcement

On December 21, 1936, the President ordered the Coast Guard to keep “open to navigation by means of icebreaking * * * channels and harbors in accordance with the reasonable demands of commerce.” Executive Order 9,521 (1936) reprinted in 14 U.S.C. 81. Icebreaking is now one of the Coast Guard's primary duties. In the Great Lakes, most icebreaking has been performed in the same way, and by the same ship, since the Coast Guard Cutter MACKINAW was commissioned in 1944.

The National Environmental Policy Act (NEPA) was enacted in 1970. The law requires an EIS to be prepared when a proposed major federal action has a significant environmental impact. 42 U.S.C. 4332(2)(C). A “proposal” exists under NEPA's regulations “at that stage in the development of an action when an agency * * * has a goal and is actively preparing to make a decision on one or more alternative means of accomplishing that goal.” 40 CFR 1508.23. Environmental analyses of ongoing activities need only be discussed in an EIS when an operation undergoes a change which itself is a major federal action.

There is no proposal to make a major change in the Coast Guard's long-standing domestic icebreaking program on the Great Lakes. Instead, concerns were raised in 1993 by the U.S. Fish and Wildlife Service and the Michigan Department of Natural Resources that ship transits made possible by icebreaking could have an adverse environmental impact on wetlands, fish populations, and fish egg development. The Coast Guard met with representatives of these organizations and agreed to look into the matter. A resultant memorandum of understanding required the Coast Guard to “update its EIS as required by NEPA concerning its icebreaking activities in the Great Lakes and in the St. Marys River.” We also agreed to conduct 3-5 years of monitoring studies on fish spawning and emergent wetlands. The studies have been completed and they clearly demonstrate that icebreaking does not have the adverse environmental consequences suspected in 1993.

The EIS being made public today relies on those studies and finds that icebreaking has no significant impact on the Great Lakes environment. Publishing this final EIS satisfies the Coast Guard's 1993 commitment to update its EIS concerning Great Lakes icebreaking. We expect to make a decision regarding icebreaking operations on the Great Lakes after the EIS has been available to the public for 30 days.

Dated: July 17, 2000.
James D. Hull,
Rear Admiral, U.S. Coast Guard, Commander, Ninth Coast Guard District

[FR Doc. 00-18936 Filed 7-25-00; 8:45 am]

BILLING CODE 4910-15-P